NATIONAL SCIENCE FOUNDATION

Preparation of an Environmental Impact Statement (EIS) for the Advanced Technology Solar Telescope (ATST) at the Haleakal̄a High Altitude Observatory (HO) Site, Mt. Haleakalā, Island of Maui, HI

AGENCY: National Science Foundation.

ACTION: Notice of intent.

SUMMARY: The National Science Foundation (NSF) intends to prepare an Environmental Impact Statement (EIS) for the proposed Advanced Technology Solar Telescope (ATST) Project. The NSF, through an award to the National Solar Observatory (NSO), plans to fund construction of the proposed ATST at the University of Hawai'i Institute for Astronomy (IfA), Haleakalā High Altitude Observatory (HO) site, on the Island of Maui, Hawai'i. An extensive campaign of worldwide site testing has identified Haleakalā Observatory as the optimal location for this next-generation solar observing facility. The telescope enclosure and a support facility would be placed at one of two identified sites within the existing observatory boundaries. The EIS will address both of these sites and the potential environmental impacts of on-site construction, installation, and operation of this proposed new solar telescope. With its unprecedented 4.2-m (165-inch) aperture, advanced optical technology, and state-of-the-art instrumentation, the proposed ATST will be an indispensable tool for exploring and understanding physical processes on the sun that ultimately affect Earth. The EIS will address, among other things, the potential direct, indirect, and cumulative environmental impacts associated with the proposed Advanced Technology Solar Telescope project. The EIS development process for the proposed action will be conducted in accordance with the National Environmental Policy Act (NEPA).

Written comments may be forwarded to:

ADDRESSES: Dr. Craig B. Foltz, Program Officer, National Science Foundation, Division of Astronomical Sciences, 4201 Wilson Blvd., Room 1045, Washington, DC 22230. Telephone: (703) 292-4909. Fax: (703) 292-9034. E-mail: cfoltz@nsf.gov.

SUPPLEMENTARY INFORMATION: Proposed alternatives to be considered may include, but not be limited to, the following:

(1) Alternative 1: (Proposed Action): Undeveloped site East of Mees Observatory.

(2) Alternative 2: Former radio telescope site known as Reber Circle.

(3) Alternative 3: No-Action. The National Science Foundation will not construct the Advanced Technology Solar Telescope on Maui.

Publication of the NOI does not foreclose consideration of any courses of actions or possible decisions addressed by the National Science Foundation in its Final Environmental Impact Statement (FEIS). No final decisions will be made regarding construction of the ATST prior to completion and signature of the Record of Decision for the proposed action.

Scoping Process: Federal, State and local agencies and the public are invited to participate in the scoping process for the completion of this EIS. The scoping process will help identify potential impacts and key issues to be analyzed in the EIS.

Scoping meetings will be held at the following locations on the island of Maui, Hawai'i, with notification of the times and locations published in the local newspapers.

(1) J. Walter Cameron Center—Auditorium, 95 Mahalani Street, Wailuku, HI 96793; Tuesday, July 12, 2005, 5 p.m. to 9:30 p.m.

(2) Kula Community Center, Lower Kula Road, Kula, HI 96790; Wednesday, July 13, 2005, 6 p.m. to 10 p.m.

(3) Mayor Hannibal Tavares Community Center—Room 2, 91 Pukalani Street, Pukalani, HI 96788; Thursday, July 14, 2005 6 p.m. to 10 p.m.

Written comments identifying potential impacts to be analyzed in the EIS will be accepted within 30 days after the scoping meetings or within 30 days after publication in the Bulletin of the State of Hawaii Office of Environmental Quality Control, whichever is later. Written comments may be submitted to Dr. Craig B. Foltz at the address above.

Dated: June 6, 2005.
Craig B. Foltz,
Program Officer.

[FR Doc. 05-11970 Filed 6-22-05; 8:45 am]

BILLING CODE 7555-01-M